ENVIRONMENTAL PROTECTION AGENCY

40 CFR Part 52

[EPA-R05-OAR-2015-0136; FRL-9947-49-Region 5]

Air Plan Approval; Minnesota; Sulfur Dioxide

AGENCY: Environmental Protection Agency (EPA).

ACTION: Proposed rule.

SUMMARY: The Environmental Protection Agency (EPA) is proposing to approve a revision to the Minnesota sulfur dioxide (SO2) State Implementation Plan (SIP) for ELT Minneapolis, LLC's River Road Industrial Center located in Fridley, Anoka County, Minnesota. The revision, submitted by the Minnesota Pollution Control Agency on February 24, 2016, updates information updates information to reflect both administrative and equipment changes at the facility. The name of the facility has changed to BAE Technology Center. The revision will result in a significant decrease in SO2 emissions and will support the continued attainment and maintenance of the SO2 national ambient air quality standard in the Twin Cities area.

DATES: Comments must be received on or before July 11, 2016.

ADDRESSES: Submit your comments, identified by Docket ID No. EPA-R05-OAR-2016-0136 at http://www.regulations.gov or via email to blakley.pamela@epa.gov. For comments submitted at Regulations.gov, follow the online instructions for submitting comments. Once submitted, comments cannot be edited or removed from Regulations.gov. For either manner of submission, EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, please contact the person identified in the FOR FURTHER INFORMATION CONTACT section. For the full EPA public comment policy, information about CBI or multimedia submissions, and general guidance on making effective comments, please visit http://www2.epa.gov/dockets/commenting-epa-dockets.

FOR FURTHER INFORMATION CONTACT: Charles Hatten, Environmental Engineer, Control Strategies Section, Air Programs Branch (AR-18J), Environmental Protection Agency, Region 5, 77 West Jackson Boulevard, Chicago, Illinois 60604, (312) 886-6031, hatten.charles@epa.gov.

SUPPLEMENTARY INFORMATION: In the Final Rules section of this Federal Register, EPA is approving Minnesota's SO2 SIP submittal as a direct final rule without prior proposal because the Agency views this as a noncontroversial submittal and anticipates no adverse comments. A detailed rationale for the approval is set forth in the direct final rule. If EPA does not receive adverse comments in response to this rule, no further activity is contemplated. If EPA receives adverse comments, EPA will withdraw the direct final rule and will address all public comments received in a subsequent final rule based on this proposed rule. EPA will not institute a second comment period. Any parties interested in commenting on this action should do so at this time. Please note that if EPA receives adverse comment on an amendment, paragraph, or section of this rule, and if that provision can be severed from the remainder of the rule, EPA may adopt as final those provisions of the rule that are not the subject of an adverse comment. For additional information, see the direct final rule which is located in the Rules section of this Federal Register.

Dated: May 31, 2016.
Robert A. Kaplan
Acting Regional Administrator, Region 5.

[FR Doc. 2016-13603 Filed 6-8-16; 8:45 am]

BILLING CODE 6560-50-P